ENVIRONMENTAL PROTECTION AGENCY

[FRL OP-OFA-066]

Environmental Impact Statements; Notice of Availability

Responsible Agency: Office of Federal Activities, General Information 202-564-5632 or https://www.epa.gov/nepa.

Weekly receipt of Environmental Impact Statements (EIS)

Filed April 10, 2023 10 a.m. EST Through April 17, 2023 10 a.m. EST

Pursuant to 40 CFR 1506.9.

Notice

Section 309(a) of the Clean Air Act requires that EPA make public its comments on EISs issued by other Federal agencies. EPA's comment letters on EISs are available at: https://cdxapps.epa.gov/cdx-enepa-II/public/action/eis/search.

EIS No. 20230053, Draft, FERC, VA, Virginia Reliability Project and Commonwealth Energy Connector Project, Comment Period Ends: 06/05/2023, Contact: Office of External Affairs 866-208-3372.

EIS No. 20230054, Final, USFWS, AZ, ADOPTION—4FRI Rim Country Project, Review Period Ends: 05/22/2023, Contact: Nicole Jimenez 505-238-7154.

The Fish and Wildlife Service (USFWS) has adopted the Forest Service's Final EIS No.20220116, filed 08/06/2022 with the Environmental Protection Agency. The USFWS was not a cooperating agency on this project. Therefore, republication of the document is necessary under Section 1506.3(b)(2) of the CEQ regulations.

EIS No. 20230055, Draft, BLM, NAT, Programmatic Environmental Impact Statement Addressing Vegetation Treatments Using Herbicides, Comment Period Ends: 06/05/2023, Contact: Seth Flanigan 208-373-4094.

EIS No. 20230056, Final, EPA, PRO, ADOPTION—PROGRAMMATIC—Habitat Restoration Activities Implemented throughout the Coastal United States, Review Period Ends: 05/22/2023, Contact: Sharon Osowski 214-665-7506.

The Environmental Protection Agency (EPA) has adopted the National Oceanic and Atmospheric Administration's Final EIS No.20150171, filed 06/11/2015 with the Environmental Protection Agency. The EPA was not a cooperating agency on this project. Therefore, republication of the document is necessary under Section 1506.3(b)(2) of the CEQ regulations.

Dated: April 17, 2023.
Cindy S. Barger,
Director, NEPA Compliance Division, Office of Federal Activities.

[FR Doc. 2023-08487 Filed 4-20-23; 8:45 am]

BILLING CODE 6560-50-P